ENVIRONMENTAL PROTECTION AGENCY

[FRL-7471-2]

Strategic Plan for North American Cooperation in the Conservation of Biodiversity—Draft for Public Review

AGENCY: Environmental Protection Agency (EPA).

ACTION: Notice of availability.

SUMMARY: Comments are requested on the final draft of the Strategic Plan for North American Cooperation in the Conservation of Biodiversity (Strategic Plan). The Strategic Plan has been prepared by the Secretariat of the Commission for Environmental Cooperation (CEC), under the North American Agreement on Environmental Cooperation, in coordination with representatives from Canada, Mexico, and the United States. The Strategic Plan will be used to guide the CEC Council, its Biodiversity Conservation Working Group, and the CEC Secretariat in their work with stakeholders in cooperatively defining and implementing mutually beneficial biodiversity conservation activities in North America. Comments will be categorized and responses will be developed for each category. Responses to comment categories will be published in the Federal Register within 45 days of the closing date for comments. Changes to the final draft of the Strategic Plan, to be made in response to comments, will be discussed with representatives from Canada, Mexico and the CEC Secretariat.

DATES: Written comments will be accepted for 30 calendar days. Please submit or postmark written comments on the final draft document by April 21, 2003.

ADDRESSES: Comments should be sent to Patrick Cotter, Office of International Affairs (2260R), U.S. Environmental Protection Agency, and 1300 Pennsylvania Avenue, NW., Washington, DC 20004. Faxed comments should be sent to Patrick Cotter at (202) 565-2409. Comments can also be sent by email to Cotter.Patrick@epa.gov.

Access to the Document: The complete text of the final draft document, in English, is available through a link on the EPA Office of International Affair's Web site at: http://www.epa.gov/international/trade/index.html, or you may access the document directly on the CEC's Web site at: http://www.cec.org/pubs_docs/documents/index.cfm?varlan=english&ID=1088. Copies of the final draft document can be obtained in electronic or hard copy format by request from Patrick Cotter at the above mailing address, email address or by calling (202) 564-6414.

FOR FURTHER INFORMATION CONTACT: Patrick Cotter by telephone at (202) 564-6414 or by email at Cotter.Patrick@epa.gov.

Dated: March 17, 2003.
Dona M. Harris,
Acting Director, Office of Management Operations, Office of International Affairs.

[FR Doc. 03-6818 Filed 3-20-03; 8:45 am]

BILLING CODE 6560-50-P